DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold a public meeting on Wednesday, October 29, 2008.

FOR FURTHER INFORMATION CONTACT: Ms. Caryl Grant, National Public Liaison, CL:NPL:SRM, Rm. 7559, 1111 Constitution Avenue, NW., Washington, DC 20224. Telephone: 202-927-3641 (not a toll-free number). E-mail address: *public_liaison@irs.gov.

SUPPLEMENTARY INFORMATION: Notice is hereby given pursuant to section 10(a)(2) of the Federal Advisory Committee Act, 5 U.S.C. App. (1988), a public meeting of the IRPAC will be held on Wednesday, October 29, 2008 from 9 a.m. to 12 p.m. in The Mint Building, 2nd Floor, Room A & B, 801 9th Street, NW., Washington, DC. Issues that may be discussed include: Income reported from interest in a foreign partnership, resolicitation of taxpayer identification numbers, procedures for second B Notice, nonqualified deferred compensation benefits, Form W-9 instructions, Form 944 reporting, Form 941X, Form 2678 and Schedule R, backup withholding for missing and incorrect name/TINs, cancellation of debt reporting, Forms 5498, 5498-ESA and 5498-SA, 63C letter, income withholding for Non-Resident Aliens, Form 990, reportable transaction disclosure statement, Barter exchange backup withholding, non resident alien scholars, entities not subject to income tax, IRA disaster relief reporting guidance, reporting instructions for IRA distributions, HSAs, rollovers of required minimum distributions, reporting requirements of IRA Beneficiary of a Beneficiary, Filing Information Returns Electronically (FIRE), TIN masking, Office of Professional Responsibility: Offer to consent letter, hypothetical situations, warning letter, IRM penalty grid, administrative law judges, Circular 230 section 10.38, and Enrolled Agent decline. Last minute agenda changes may preclude advance notice. Due to limited seating and security requirements, please call or email Caryl Grant to confirm your attendance. Ms. Grant can be reached at 202-927-3641 or *public_liaison@irs.gov. Attendees are encouraged to arrive at least 30 minutes before the meeting begins to allow sufficient time for purposes of security clearance. Should you wish the IRPAC to consider a written statement, please call 202-927-3641, or write to: Internal Revenue Service, Office of National Public Liaison, CL:NPL:SRM, CP6 4-39, 1111 Constitution Avenue, NW., Washington, DC 20224 or e-mail: *public_liaison@irs.gov.

Dated: October 1, 2008.
Mark Kirbabas,
Branch Chief, National Public Liaison.

[FR Doc. E8-23655 Filed 10-6-08; 8:45 am]

BILLING CODE 4830-01-P